DEPARTMENT OF DEFENSE

Department of the Army

Programmatic Environmental Impact Statement for Real Property Master Plan Implementation at Military Ocean Terminal Sunny Point, North Carolina

AGENCY: Department of the Army, DOD.

ACTION: Notice of intent.

SUMMARY: The Department of the Army (Army) announces its intent to conduct public scoping under the National Environmental Policy Act (NEPA) to gather information to prepare an Environmental Impact Statement (EIS) for proposed near-term real property actions and the update of the Real Property Master Plan (RPMP) for Military Ocean Terminal Sunny Point (MOTSU). MOTSU is a 16,435-acre installation located on the banks of the Cape Fear River between the towns of Boiling Spring Lakes and Southport, North Carolina. The scoping process will help identify reasonable alternatives, potential environmental impacts, and key issues of concern to be analyzed in the EIS. The Army intends to comply with the requirements of section 106 of the National Historic Preservation Act in parallel with this NEPA process and invites federally recognized Tribes and the State Historic Preservation Office (SHPO) of North Carolina to participate in the consultation process.

DATES: Scoping comments must be submitted/sent on or before November 11, 2023. There will be a public meeting, as discussed below.

ADDRESSES: Please send written comments to James A. Rupkalvis, Installation Manager, 6280 Sunny Point Road, Southport, NC 28461-7800 or via email to james.a.rupkalvis.civ@army.mil.

FOR FURTHER INFORMATION CONTACT: Stephen C Herring, Legislative Affairs Officer, Public and Congressional Affairs Office, Military Surface Deployment and Distribution Command; telephone (618) 220-6119; email: stephen.c.herring.civ@army.mil.

SUPPLEMENTARY INFORMATION: MOTSU is the Military Surface Deployment and Distribution Command's East Coast strategic ammunition port and is the Department of Defense's primary ammunition seaport supporting the European, African, and Middle Eastern areas of operation. The proposed action includes barricade safety, waterfront maintenance, Pleasure Island Explosive Safety Clear Zone security, linear infrastructure (e.g., roads, rail, utilities, firebreaks), stormwater mitigation, and cantonment area infill. In addition to these projects planned for the fiscal year 2025 through 2031 timeframe, the proposed action includes modernizing operation areas and general repair and maintenance of infrastructure, to include facilities, wharves, roads, rail, utilities, and perimeter security. The purpose of the proposed action is to provide MOTSU a master plan that will guide installation-wide real property management and development. The need for the proposed action is to maintain and modernize MOTSU's infrastructure so its staff and assets are safe and secure and so its vital, long-term, trans-shipment mission is assured. The master plan allows for a coordinated approach to the maintenance and modernization of critical infrastructure.

The EIS will evaluate the potential impacts associated with implementing the proposed RPMP activities, to include analyzing Full-Plan Implementation, a Partial Implementation Alternative, and a No-Action Alternative. Any other reasonable alternatives identified during the scoping process will be considered for evaluation in the EIS. The EIS will assess the impacts of the alternatives on resources and identify mitigation measures. Resource areas to be addressed include land use and coastal zone management, cultural resources, socioeconomics and environmental justice, transportation and utilities infrastructure, hazardous materials, hazardous waste, toxic substances, and contaminated sites. The proposed action could result in significant adverse effects to endangered species, 100-year floodplains, wetlands, and waters of the Cape Fear River. Anticipated permits and other authorizations include findings of no practicable alternatives for actions proposed in floodplains and wetlands per Executive Orders 11988 and 11990 respectively, Endangered Species Act consultations and take permits, National Historic Preservation Act consultations, Clean Water Act section 401 water quality certifications and section 404 permits, Rivers and Harbors Act section 10 permits, Sediment Pollution Control Act permits, and North Carolina Coastal Area Management Act federal consistency determinations. Actual permits and other authorizations will be determined for each project following that project's final design.

Members of the public, federally recognized Native American Tribes, and Federal, state, and local agencies are invited to participate in the scoping process for the preparation of this EIS by attending the virtual public meeting and/or submitting written comments. The Army requests input on identification of potential alternatives, information, and analyses relevant to the proposed action.

Written comments must be sent within 30 days of publication of this NOI in the Federal Register. A virtual public meeting will be held during this period. The date and location of the meeting will be announced at least seven days in advance through local media, newspapers, and on the project's website. Materials, including posters, fact sheet(s), and comment forms will be made available on https://www.sddc.army.mil/SitePages/Environmental%20Programs.aspx.

James W. Satterwhite Jr.,
U.S. Army Federal Register Liaison Officer.

[FR Doc. 2023-22496 Filed 10-11-23; 8:45 am]

BILLING CODE 3711-02-P